DEPARTMENT OF THE INTERIOR

Bureau of Land Management

[UTU-80041]

Notice of Invitation to Participate In Coal Exploration Program

AGENCY: Bureau of Land Management, Interior.

ACTION: Notice of Invitation to participate in Coal Exploration program Canyon Fuel Company, LLC, Flat Canyon Tract, Boulger Canyon Area. Canyon Fuel Company is inviting all qualified parties to participate in its proposed exploration of certain Federal Coal deposits in Sanpete County, Utah.

SUPPLEMENTARY INFORMATION: This notice of invitation to participate in Coal Exploration program Canyon Fuel Company LLC, Flat Canyon Tract, Boulger Canyon Area. Canyon Fuel Company is inviting all qualified parties to participate in its proposed exploration of certain Federal Coal deposits in Sanpete County, Utah:

T. 13 S., R. 6 E., SLM, UT

Sec. 28, lots 4-8, SW; Sec. 33, E2.

Containing 667.93 acres.

Any party electing to participate in this exploration program must send written notice of such election to the Bureau of Land Management, Utah State Office, P.O. Box 45155, Salt Lake City, Utah 84145, and to Mark Bunnell, Mine Geologist, Canyon Fuel Company, LLC, Skyline Mine, HC 35 Box 380, Helper, Utah 84526. Such written notice must be received within thirty days after publication of this notice in the Federal Register.

Any party wishing to participate in this exploration program must be qualified to hold a lease under the provisions of 43 CFR 3472.1 and must share all cost on a pro rata basis. An exploration plan submitted by Canyon Fuel Company, LLC, detailing the scope and timing of this exploration program is available for public review during normal business hours in the public room of the BLM State Office, 324 South State Street, Salt Lake City, Utah, under the serial number UTU-80041.

FOR FURTHER INFORMATION CONTACT: Chris Merritt, Salt Lake City, Bureau of Land Management, (801) 539-4109.

Dated: June 3, 2002.
Kent Hoffman,
Deputy State Director, Lands and Minerals.

[FR Doc. 02-22389 Filed 8-30-02; 8:45 am]

BILLING CODE 4310-$$-P